DEPARTMENT OF THE INTERIOR

Bureau of Land Management

[NV-020-1990-EX]

Notice of Availability of Final Supplemental Environmental Impact Statement; Glamis Marigold Mining Company/Marigold Mine Millennium Expansion Project, Humboldt Co., NV

AGENCY: Bureau of Land Management, Interior.

ACTION: Notice of availability.

SUMMARY: Pursuant to section 102(2)(c) of the National Environmental Policy Act of 1969, notice is given that the Winnemucca Field Office of the Bureau of Land Management (BLM) has prepared, by third party contractor, a Final Supplemental Environmental Impact Statement (SEIS) on the Glamis Marigold Mining Company/Marigold Mine Millennium Expansion Project, located in Humboldt County, Nevada.

EFFECTIVE DATES: The period of availability for public review of the Final SEIS ends 30 days after publication of this notice in the Federal Register by the Environmental Protection Agency. At that time, public comments will be reviewed and considered in the decision making process. The Record of Decision will reflect any changes made to the Draft SEIS.

ADDRESSES: A copy of the Final SEIS can be obtained from: Bureau of Land Management, Winnemucca Field Office, 5100 East Winnemucca Blvd., Winnemucca, Nevada 89445.

FOR FURTHER INFORMATION CONTACT: Jeffrey D. Johnson, Project Manager, at the above Winnemucca Field Office address or telephone (775) 623-1500.

SUPPLEMENTARY INFORMATION: The Final SEIS analyzes the direct, indirect and cumulative impacts related to expansion of existing mine facilities (pits, overburden dumps & heap leach pads) and development of the Millennium Projects. Development includes construction of five new pits, overburden disposal areas, two additional heap leach facilities, drainage diversions, haul and exploration roads and ancillary facilities. Alternatives analyzed include: (1) Moving the Trout Creek Diversion toward the west, farther from the Red Rock Pit, (2) increasing backfilling along the west high wall of the Red Rock Pit, and (3) taking no action. The agency-preferred alternative is alternative number 2; increasing backfilling along the west high wall of the Red Rock Pit. The Final SEIS contains in its entirety the analysis originally presented in the Draft SEIS (issued April 5, 2003) with all text changes presented in bold type. In addition, letters received during the Draft SEIS comment period and the agency's responses to the comments have been incorporated into the Final SEIS.

Dated: June 30, 2003.
Terry Reed,
Field Manager.

Editor's Note: This document was received at the Office of the Federal Register on December 1, 2003.

[FR Doc. 03-30193 Filed 12-4-03; 8:45 am]

BILLING CODE 4310-HC-P